DEPARTMENT OF COMMERCE

International Trade Administration

[A-475-824]

Stainless Steel Sheet and Strip in Coils From Italy: Extension of Time Limit for Final Results of Antidumping Duty Administrative Review

AGENCY: Import Administration, International Trade Administration, Department of Commerce.

EFFECTIVE DATE: December 2, 2004.

SUMMARY: The U.S. Department of Commerce (the Department) is extending the time limit, from December 7, 2004, until no later than February 7, 2005, for the final results of the administrative review of the antidumping duty order on stainless steel sheet and strip (SSSS) in coils from Italy. The period of review (POR) is July 1, 2002, through June 30, 2003. This extension is made pursuant to section 751(a)(3)(A) of the Tariff Act of 1930, as amended (the Act).

FOR FURTHER INFORMATION CONTACT: Angelica Mendoza at (202) 482-3019; AD/CVD Operations, Office 7, Import Administration, International Trade Administration, U.S. Department of Commerce, 1401 Constitution Avenue, NW., Washington, DC 20230.

SUPPLEMENTARY INFORMATION:

Background

On July 2, 2003, the Department published in the Federal Register a notice of opportunity to request an administrative review of the antidumping duty order on SSSS from Italy. See Antidumping or Countervailing Duty Order, Finding, or Suspended Investigation; Opportunity to Request Administrative Review, 68 FR 39511. On July 31, 2003, ThyssenKrupp Acciai Speciali Terni S.p.A. (TKAST) and petitioners requested that the Department conduct an administrative review of the antidumping duty order. On August 22, 2003, the Department initiated an administrative review of the antidumping duty order on SSSS from Italy with regard to TKAST. See Initiation of Antidumping and Countervailing Duty Administrative Reviews and Requests for Revocation in Part, 68 FR 50750.

On February 9, 2004, the Department extended by 60 days the deadline for issuing the preliminary results of this review. See Extension of Time Limit of the Preliminary Results of Antidumping Duty Administrative Review: Stainless Steel Sheet and Strip in Coils from Italy, 69 FR 9590 (March 1, 2004). On August 9, 2004, the Department published the preliminary results of this review (69 FR 48205).

Extension of Time Limit for Final Results

Pursuant to section 751(a)(3)(A) of the Act, the Department may extend the deadline for completion of the final results of an administrative review if it determines that it is not practicable to complete the final results within the statutory time limit of 120 days from the date on which the preliminary results were published. The Department has determined that due to the complexity of the issues raised in this review, including how to treat premiums paid by respondent's (i.e., ThyssenKrupp Acciai Speciali Terni S.p.A.'s) parent company to buyback company stock held by an Iranian company, it is not practicable to complete this review within the time limits mandated by section 751(a)(3)(A) of the Act and section 19 CFR 351.213(h)(1) of the Department's regulations. Therefore, the Department is extending the time limit for the completion of these final results by 60 days. Accordingly, the final results of this review will now be due no later than February 7, 2005.¹

¹ Because the final results are due February 5, 2005 (a non-business day), we will issue the final results no later than the next business day (i.e., February 7, 2005).

This notice is published in accordance with section 751(a)(3)(A) of the Act and section 19 CFR 351.213(h)(2) of the Department's regulations.

Dated: November 26, 2004.
Gary Taverman,
Acting Deputy Assistant Secretary for Import Administration.

[FR Doc. E4-3447 Filed 12-1-04; 8:45 am]

BILLING CODE 3510-DS-P